DEPARTMENT OF ENERGY

Federal Energy Regulatory Commission

Combined Notice of Filings #1

Take notice that the Commission received the following electric corporate filings:

Docket Numbers: EC21-58-000.

Applicants: Upper Peninsula Power Company, Axium UP Holdings LLC.

Description: Joint Application for Authorization Under Section 203 of the Federal Power Act of Upper Peninsula Power Company, et al.

Filed Date: 02/26/2021.

Accession Number: 20210226-5460.

Comment Date: 5 p.m. ET 3/19/21.

Take notice that the Commission received the following electric rate filings:

Docket Numbers: ER10-2738-008; ER20-2586-001.

Applicants: North Fork Ridge Wind, LLC, The Empire District Electric Company.

Description: Notice of Non-Material Change in Status of The Empire District Electric Company, et al.

Filed Date: 02/26/2021.

Accession Number: 20210226-5458.

Comment Date: 5 p.m. ET 3/19/21.

Docket Numbers: ER20-2009-004.

Applicants: Tri-State Generation and Transmission Association, Inc.

Description: Tri-State Generation and Transmission Association, Inc. submits tariff filing per 35: Attachment M Compliance Filing to be effective 2/25/2020.

Filed Date: 02/26/2021.

Accession Number: 20210226-5324.

Comment Date: 5 p.m. ET 3/19/21.

Docket Numbers: ER21-251-001.

Applicants: Degrees3 Transportation Solutions, LLC.

Description: Second Supplement to October 29, 2020 Degrees3 Transportation Solutions, LLC tariff filing.

Filed Date: 02/25/2021.

Accession Number: 20210225-5186.

Comment Date: 5 p.m. ET 3/18/21.

Docket Numbers: ER21-610-002.

Applicants: PJM Interconnection, L.L.C.

Description: PJM Interconnection, L.L.C. submits tariff filing per 35.17(b): Supplement and Correction: First Revised ISA, SA No. 1503; Queue No. AD2-001 to be effective 8/31/2020.

Filed Date: 03/01/2021.

Accession Number: 20210301-5100.

Comment Date: 5 p.m. ET 3/22/21.

Docket Numbers: ER21-1225-000.

Applicants: Long Ridge Energy Generation LLC.

Description: Long Ridge Energy Generation LLC submits tariff filing per 35.12: Application For Market Based Rate Authority to be effective 4/29/2021.

Filed Date: 02/26/2021.

Accession Number: 20210226-5325.

Comment Date: 5 p.m. ET 3/19/21.

Docket Numbers: ER21-1226-000.

Applicants: ISO New England Inc.

Description: ISO New England Inc. submits the Forward Capacity Auction Results Filings for the Fifteenth Forward Capacity Auction.

Filed Date: 02/26/2021.

Accession Number: 20210226-5330.

Comment Date: 5 p.m. ET 3/19/21.

Docket Numbers: ER21-1227-000.

Applicants: Grover Hill Wind, LLC.

Description: Grover Hill Wind, LLC submits Petition for Limited Waiver of the deadline in Section 206.2 of the PJM OATT.

Filed Date: 02/26/2021.

Accession Number: 20210226-5347.

Comment Date: 5 p.m. ET 3/8/21.

Docket Numbers: ER21-1228-000.

Applicants: New England Power Pool Participants Committee.

Description: New England Power Pool Participants Committee submits tariff filing per 35.13(a)(2)(iii: March 2021 Membership Filing to be effective 2/1/2021.

Filed Date: 02/26/2021.

Accession Number: 20210226-5362.

Comment Date: 5 p.m. ET 3/19/21.

Docket Numbers: ER21-1229-000.

Applicants: Public Service Company of New Mexico.

Description: Public Service Company of New Mexico submits tariff filing per 35.13(a)(2)(iii: PNM Administrative Filing to Update Schedule 4 tariff record to be effective 4/1/2021.

Filed Date: 02/26/2021.

Accession Number: 20210226-5368.

Comment Date: 5 p.m. ET 3/19/21.

Docket Numbers: ER21-1230-000.

Applicants: PJM Interconnection, L.L.C.

Description: PJM Interconnection, L.L.C. submits tariff filing per 35.13(a)(2)(iii: Original WMPA, Service Agreement No. 5989; Queue No. AF1-217 to be effective 2/2/2021.

Filed Date: 03/01/2021.

Accession Number: 20210301-5024.

Comment Date: 5 p.m. ET 3/22/21.

Docket Numbers: ER21-1233-000.

Applicants: PJM Interconnection, L.L.C.

Description: PJM Interconnection, L.L.C. submits tariff filing per 35.13(a)(2)(iii: Supplement and Correction: First Revised ISA, SA No. 1503; Queue No. AD2-001 to be effective 8/31/2020.

Filed Date: 03/01/2021.

Accession Number: 20210301-5080.

Comment Date: 5 p.m. ET 3/22/21.

Docket Numbers: ER21-1234-000.

Applicants: Southern California Edison Company.

Description: Southern California Edison Company submits tariff filing per 35.13(a)(2)(iii: LGIA Coso Navy 2 BLM Coso Energy Storage Project TOT274 & TOT275 SA No. 262 to be effective 3/2/2021.

Filed Date: 03/01/2021.

Accession Number: 20210301-5164.

Comment Date: 5 p.m. ET 3/22/21.

Docket Numbers: ER21-1235-000.

Applicants: PJM Interconnection, L.L.C.

Description: PJM Interconnection, L.L.C. submits tariff filing per 35.13(a)(2)(iii: Original ISA, Service Agreement No. 5967; Queue No. AE1-084 to be effective 2/1/2021.

Filed Date: 03/01/2021.

Accession Number: 20210301-5173.

Comment Date: 5 p.m. ET 3/22/21.

Docket Numbers: ER21-1236-000.

Applicants: Northern Indiana Public Service Company.

Description: Northern Indiana Public Service Company LLC submits tariff filing per 35.13(a)(2)(iii: Filing of a CIAC Agreement to be effective 3/1/2021.

Filed Date: 03/01/2021.

Accession Number: 20210301-5199.

Comment Date: 5 p.m. ET 3/22/21.

Take notice that the Commission received the following electric securities filings:

Docket Numbers: ES21-33-000.

Applicants: Upper Peninsula Power Company.

Description: Application Under Section 204 of the Federal Power Act for Authorization to Issue Securities for Upper Peninsula Power Company.

Filed Date: 02/26/2021.

Accession Number: 20210226-5462.

Comment Date: 5 p.m. ET 3/19/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 1, 2021.
Nathaniel J. Davis, Sr.,
Deputy Secretary.

[FR Doc. 2021-04583 Filed 3-4-21; 8:45 am]

BILLING CODE 6717-01-P